DEPARTMENT OF HEALTH AND HUMAN SERVICES

Office of the Secretary

Findings of Research Misconduct; Correction

AGENCY: Office of the Secretary, HHS

ACTION: Correction of notice.

SUMMARY: This document corrects errors that appeared in the notice published in the July 30, 2014, Federal Register entitled “Findings of Research Misconduct.”

DATES: Effective Date: September 11, 2014.

Applicability Date: The correction notice is applicable for the Findings of Research Misconduct notice published on July 30, 2014.

FOR FURTHER INFORMATION CONTACT: Karen Gorirossi at 240-453-8800.

SUPPLEMENTARY INFORMATION:

I. Background

In FR Doc. 2014-17889 of July 30, 2014 (79 FR 44171-44172), there is an error in the grant information. The error is identified and corrected in the Correction of Errors section below.

II. Correction of Errors

In FR Doc. 2014-17889 of July 30, 2014 (79 FR 44171-44172), make the following corrections:

1. On page 44171, third column, second paragraph, change “National Institute of Dental and Craniofacial Research (NIDCR), National Institutes of Health (NIH), grants R01 DC001622 and R01 DC004842” in the last five lines of the paragraph to read “National Institute on Deafness and Other Communication Disorders (NIDCD), National Institutes of Health (NIH), grants R01 DC001662 and R01 DC004842.”

Dated: August 26, 2014.
Donald Wright,
Acting Director, Office of Research Integrity.

[FR Doc. 2014-21284 Filed 9-10-14; 8:45 am]

BILLING CODE 4150-31-P